DEPARTMENT OF THE INTERIOR

Bureau of Land Management

[LLCAC00000 L07770900 XZ0000]

Notice of Public Meeting of the Central California Resource Advisory Council

AGENCY: Bureau of Land Management, Interior.

ACTION: Notice of Public Meeting.

SUMMARY: In accordance with the Federal Land Policy and Management Act (FLPMA) and the Federal Advisory Committee Act of 1972 (FACA), the U.S. Department of the Interior, Bureau of Land Management (BLM) Central California Resource Advisory Council (RAC) will meet as indicated below.

DATES: The meeting will be held Friday and Saturday, Sept. 11 and 12, 2009, at the Rabobank, 1070 Main St., Cambria, CA. On Sept. 11, the members will tour Piedras Blancas Light Station from 9 a.m. to noon. There will be a short meeting of the RAC Off-Highway Vehicle Subgroup at the Rabobank at 1 p.m., followed by the RAC meeting. Members of the public are welcome to attend the tour and meeting. Field tour participants must provide their own transportation and lunch. The Advisory Council will resume its meeting at 8 a.m. on Sept. 12, at the Rabobank. Time for public comment is reserved from 9 a.m. to 10 a.m. on Sept. 12.

FOR FURTHER INFORMATION CONTACT: BLM Central California District Manager Kathy Hardy, (916) 978-4626; or BLM Public Affairs Officer David Christy, (916) 941-3146.

SUPPLEMENTARY INFORMATION: The 12-member council advises the Secretary of the Interior, through the BLM, on a variety of planning and management issues associated with public land management in Central California. At this meeting, agenda topics will include an update on the Resource Management plans for the Carrizo Plain National Monument and the BLM Bakersfield Field Office. Additional ongoing business will be discussed by the council. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: July 23, 2009.
David Christy,
Public Affairs Officer.

[FR Doc. E9-18816 Filed 8-5-09; 8:45 am]

BILLING CODE 4310-40-P